DEPARTMENT OF COMMERCE

National Oceanic and Atmospheric Administration

RIN 0648-XC854

New England Fishery Management Council; Public Meeting

AGENCY: National Marine Fisheries Service (NMFS), National Oceanic and Atmospheric Administration (NOAA), Commerce.

ACTION: Notice of a public meeting.

SUMMARY: The New England Fishery Management Council (Council) will hold a three-day meeting on September 24-26, 2013 to consider actions affecting New England fisheries in the exclusive economic zone (EEZ).

DATES: The meeting will be held on Tuesday, September 24 through Thursday, September 26, 2013, starting at 8:30 a.m. each day.

ADDRESSES: The meeting will be held at the Cape Codder Resort and Spa, 1225 Iyannough Road, Hyannis, MA 02601; telephone: (855) 861-4370 or online at. http://www.capecodderresort.com/.

Council address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, September 24, 2013

The Council will begin the first day this meeting with a brief closed session for the purpose of discussing Scientific and Statistical Committee appointments. Introductions and announcements will follow, the swearing-in of new and reappointed members will take place and the election of 2013-14 officers will be held. The Joint Habitat/Groundfish Committee will seek approval of possible modifications to the Omnibus Essential Fish Habitat Amendment Draft Environmental Impact Statement (DEIS) based on recommendations made by the committee. As a result, the Council may modify the range of alternatives being analyzed, including making adjustments to area boundaries and measures within habitat management areas, spawning areas and/or dedicated habitat research areas. Prior to a lunch break, the Council will receive an overview of the bluefin tuna management measures being considered for inclusion in Amendment 7 to the Highly Migratory Species Fishery Management Plan (FMP). It also will consider approval of an Enforcement Committee recommendation that, if approved, would allow the NEFMC to give the NOAA/NMFS Regional Administrator the authority to modify elements of the current stowage requirements for trawl gear in restricted areas to enhance safety at sea. The Tuesday afternoon session will include a summary of results from the 2013 Eastern Georges Bank cod and haddock and the Georges Bank yellowtail flounder Transboundary Resources Assessment Committee meeting; a review and possible approval of the Transboundary Management Guidance Committee's recommendations for fishing year 2014 quotas for Eastern Georges Bank cod and haddock and the Georges Bank stock of yellowtail flounder; and a discussion about quota trades for fishing year 2014. The Scientific and Statistical Committee will report on its acceptable biological catch (ABC) recommendations for several groundfish stocks, monkfish, sea scallops, red crab and skates; and their review of additional issues discussed by the committee. These include rebuilding plans for Gulf of Maine cod and American plaice and the possible “spillover” of Georges Bank haddock in the Gulf of Maine. Prior to adjourning for the day, the Council intends to take final action on the red crab specifications for fishing years 2014-16.

Wednesday, September 25, 2013

The NEFMC's Groundfish Oversight Committee will select measures to be analyzed in Framework Adjustment 51 to the Northeast Multispecies (Groundfish) FMP. These will include but are not limited to the 2014-16 overfishing level (OFL), ABC and annual catch level (ACL) for white hake, the 2014-15 OFL, ABC and ACL for Georges Bank yellowtail flounder, ACLs for Eastern Georges Bank haddock and Eastern Georges Bank cod, revisions to the Gulf of Maine cod and American plaice rebuilding plans, and small-mesh accountability measures (AMs) for the Georges Bank yellowtail flounder sub-ACL; in addition to a provision that would give the Regional Administrator authority to make in-season adjustments to the U.S./CA quotas, other adjustments to the groundfish management measures may be added by the Council. An update on progress to develop Amendment 18 to the Groundfish FMP also will be addressed.

After a lunch break, the Scallop Committee will update the Council on the development of Framework Adjustment 25 to the Sea Scallop FMP. This action includes specifications for fishing years 2014 and 2015 (default), AMs for Southern New England/Mid-Atlantic windowpane flounder and measures to address unused fishing year 2013 Closed Area I access trips. The Monkfish Committee will ask for approval of a range of alternatives for purposes of further analysis in Framework Adjustment 8 to the Monkfish FMP. Measures will include the specification of an annual catch target (ACT), days-at-sea and trip limits for the 2014-16 fishing years and changes to the permit Category H boundary.

Thursday, September 26, 2013

The last day of the meeting will begin with reports from the NEFMC Chairman and Executive Director, NOAA Fisheries Regional Administrator, the Northeast Fisheries Science Center and Mid-Atlantic Fishery Management Council liaisons, as well as NOAA General Counsel, and representatives of the Atlantic States Marine Fisheries Commission, U.S. Coast Guard, and NOAA Enforcement. Brief summaries about the recent activities of the Council's ABC Control Rule and Electronic Monitoring Working Groups are scheduled to occur under this agenda item. There also will be an open period for public comments during which any interested party may provide brief remarks on issues relevant to Council business but not listed on the meeting agenda. The Skate Committee will review its progress to develop 2014 specifications for the fishery. Prior to a lunch break, the Herring Committee will ask for approval of final measures that would establish catch caps for river herring/shad in the Atlantic herring fishery. Several items are scheduled for the afternoon session. These include a brief presentation by the Northeast Fisheries Science Center and the NOAA Fisheries Northeast Regional Office (NERO) about issues and options considered by an internal working group that has examined funding for at-sea monitors, including those that are industry-funded. A discussion of next steps will follow. A NERO presentation is scheduled that includes recommendations about an omnibus amendment that would simplify the current vessel baseline restrictions. The day will end with initial Council consideration of its management priorities for 2014 and any other outstanding business that may have been deferred until the end of the meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: September 3, 2013.
Tracey L. Thompson,
Acting Director, Office of Sustainable Fisheries National Marine Fisheries Service.

[FR Doc. 2013-21703 Filed 9-5-13; 8:45 am]

BILLING CODE 3510-22-P